ENVIRONMENTAL PROTECTION AGENCY

40 CFR Part 52

[AZ 063-0020a; FRL-6839-9]

Approval and Promulgation of Implementation Plans; Arizona State Implementation Plan Revision, Pinal County Air Quality Control District and Pinal-Gila Counties Air Quality Control District

AGENCY: Environmental Protection Agency (EPA).

ACTION: Direct final rule.

SUMMARY: EPA is taking direct final action to approve revisions to the Arizona State Implementation Plan (SIP). The revisions are rules from the Pinal County Air Quality Control District (PCAQCD). These rules were submitted by the State on behalf of the PCAQCD to provide support for general permitting requirements for stationary sources in the PCAQCD.

This action will clarify which PCAQCD rules were incorporated into the federally approved SIP on April 9, 1996 (61 FR 15717). This action will also remove inappropriate PCAQCD and Pinal-Gila Counties Air Quality Control District (PGCAQCD) rules from the SIP. Thus, EPA is approving this action on general permitting rules in the Arizona SIP under provisions of the CAA regarding EPA action on SIP submittals, SIPs for national primary and secondary ambient air quality standards, and plan requirements for maintenance attainment areas.

DATES: This rule is effective on February 20, 2001 without further notice, unless EPA receives adverse comments by January 19, 2001. If EPA receives such comment, it will publish a timely withdrawal in the Federal Register informing the public that EPA's approval of this rule will not take effect.

ADDRESSES: Comments must be submitted in writing to Andrew Steckel at the Region IX mailing address listed below. Copies of the rules and EPA's evaluation report are available for public inspection at EPA's Region IX office during normal business hours. Copies of the submitted rules are available for inspection at the following locations:

Rulemaking Office, (AIR-4), Air Division, Environmental Protection Agency, Region IX, 75 Hawthorne Street, San Francisco, CA 94105.

Environmental Protection Agency, Air Docket (6102), Ariel Rios Building, 1200 Pennsylvania Avenue, NW., Washington, DC 20460.

Arizona Department of Environmental Quality, 3033 North Central Avenue, Phoenix, AZ 85012.

Pinal County Air Quality Control District, Building F, 31 North Pinal Street, (P. O. Box 987), Florence, AZ 85232.

FOR FURTHER INFORMATION CONTACT: Al Petersen, Rulemaking Office, (AIR-4), Air Division, U.S. Environmental Protection Agency, Region IX, 75 Hawthorne Street, San Francisco, CA 94105, Telephone: (415) 744-1135.

SUPPLEMENTARY INFORMATION:

I. Applicability

The rules that were previously approved into the PCAQCD ¹ portion of the Arizona SIP are listed below in section III. The rules being removed from the SIP are PCAQCD Rules 1-1-050, 1-1-055, 1-1-105, and 3-1-080 and PGCAQCD Rules 7-1-2.2, 7-1-2.4, 7-1-2.7, 7-2-1.3, and 7-3-6.1. PCAQCD Rules 3-1-045 and 3-1-100 are clarified as not being in the SIP, because they did not have a valid SIP submittal.

¹ The Gila County Board of Supervisors dissolved the PGCAQCD on the part of Gila County on April 4, 1988. The Pinal County Board of Supervisors dissolved the PGCAQCD on the part of Pinal County on November 23, 1992. The existing PGCAQCD SIP rules remain in the SIP applying to Pinal County and Gila County until rescinded, removed, or replaced by EPA action with respect to each county.

II. Background

On August 16, 1994, May 31, 1995, and November 27, 1995, ADEQ submitted or resubmitted to EPA on behalf of PCAQCD various rules relating to general permitting and PSD requirements. Part of these rules were approved in a Federal Register (FR) document by EPA for incorporation into the PCAQCD portion of the Arizona SIP on April 9, 1996 (61 FR 15717). Part of the approved rules were submitted at earlier dates, but EPA can act only on the latest submittal date, November 27, 1995. The adoption date for all rules was incorrectly designated as October 12, 1995, because many of the individual rules had earlier adoption dates. Only approved chapters and articles were listed in the FR document, but this did not clarify which individual rules were approved. This present action will clarify and correct the deficiencies in the previous FR document of April 9, 1996.

III. EPA Evaluation and Action

In determining the approvability of a rule submittal, EPA must evaluate the rules for consistency with the requirements of the CAA, EPA regulations, as found in section 110 of the CAA and 40 CFR part 51 (Requirements for Preparation, Adoption, and Submittal of Implementation Plans), and EPA policy. The statutory requirements for nonattainment area permitting are found in Title I of the CAA. EPA must also ensure that rules are enforceable, appropriate for the SIP, and strengthen or maintain the SIP's control strategy.

EPA is clarifying that the individual rules approved on April 9, 1996 (61 FR 15717) along with their respective individual adoption dates, are as follows:

• PCAQCD Rules 1-1-020, 1-1-030, 1-1-040, [1-1-050], 1-1-060, 1-1-070, 1-1-080, 1-1-100, 1-2-110, 2-1-010, 2-1-020, 2-1-030, 2-1-040, 2-1-050, 2-1-060, 2-1-070, 2-2-080, 2-2-090, 2-3-100, 2-3-110, 2-4-120, 2-4-130, 2-4-140, 2-4-150, 2-5-170, 2-5-210, 2-6-220, 2-7-230, 2-7-240, 2-7-250, 2-7-260, 2-7-270, 3-1-020, 3-1-132, adopted on June 29, 1993.

• PCAQCD Rules 1-1-090, 1-2-120, 3-1-010, 3-1-030, 3-1-055, 3-1-065, 3-1-070, 3-1-082, 3-1-085, 3-1-087, 3-1-090, 3-1-102, 3-1-105, 3-1-110, 3-1-120, 3-1-140, 3-1-150, 3-1-160, 3-1-170, 3-1-173, 3-1-175, 3-1-177, 3-2-180, 3-2-185, 3-2-195, 3-2-190, 3-3-200, 3-3-203, 3-3-205, 3-3-260, 3-3-270, 3-3-275, 3-3-280, adopted on November 3, 1993.

• PCAQCD Rules 1-1-010, [1-1-055], 1-1-106, 2-5-180, 2-5-190, 2-5-200, 3-1-042, 3-1-060, [3-1-080], 3-1-081, 3-1-083, 3-1-084, 3-1-089, 3-1-103, 3-1-107, 3-1-109, 3-3-210, 3-3-250, adopted on February 22, 1995.

• PCAQCD Rules [1-1-105], 1-3-130, 1-3-140, 2-5-160, 3-1-040, 3-1-050, adopted on October 12, 1995.

The four rules below were erroneously approved by EPA as part of the previously approved Chapter 1, Article 1 (1-1-xxx series rules) and Chapter 3, Article 1 (3-1-xxx series rules). EPA is removing the four rules below from the PCAQCD portion of the Arizona SIP under section 110(k)(6) as inconsistent with the requirements of section 110(a) and part D of the CAA. The four rules are not appropriate for inclusion in the SIP for the reasons given below. Removal of these four rules from the SIP will have no effect on emissions to the ambient air:

• PCAQCD Rule 1-1-050, Authorization to Accept Funds or Grants, relates to management of local funds.

• PCAQCD Rule 1-1-055, Authorization to Collect Funds or Fees, relates to management of local funds and fees.

• PCAQCD Rule 1-1-105, SIP List, is a non-regulatory rule.

• PCAQCD Rule 3-1-080, Appeals to the Hearing Board, relates to procedures for the local hearing board.

The two rules below were apparently approved by EPA as part of the previously approved Chapter 3, Article 1 (3-1-xxx series rules). However, PCAQCD specifically excluded these rules from the November 27, 1995 submittal. Therefore, EPA is clarifying that these two rules are not approved into the SIP and have never been in the SIP, because there is not a valid SIP submittal:

• PCAQCD Rule 3-1-045, Transition from Installation and Operating Permit Program.

• PCAQCD Rule 3-1-100, Permit Posting.

Certain of the rules from the now-defunct PGCAQCD are determined by EPA to have been erroneously approved, because they are not appropriate for inclusion in the SIP. EPA is removing the following rules from the PGCAQCD portion of the Arizona SIP under section 110(k)(6) as inconsistent with the requirements of section 110(a) and part D of the CAA. A consequence of this action is that these rules are also removed from the PCAQCD portion of the Arizona SIP. The rules are not appropriate for inclusion in the SIP for the reasons given below. Removal of these rules from the SIP will have no effect on emissions to the ambient air:

• PGCAQCD Rule 7-1-2.2, Permit Unit Description and Fees, relates to assessment of local fees.

• PGCAQCD Rule 7-1-2.4, Appeals to Hearing Board, relates to procedures for the local hearing board.

• PGCAQCD Rule 7-1-2.7, Enforcement, relates to lacal enforcement of Arizona statutes.

• PGCAQCD Rule 7-2-1.3, Non-Methane Hydrocarbons, relates to a district non-methane hydrocarbon standard that does not have an equivalent in the NAAQS. This is consistent with the CAA, because there is no effect on attainment or any other applicable requirement of the CAA.

• PGCAQCD Rule 7-3-6.1, Policy and Legal Authority, relates to local authority of the PGCAQCD and the local hearing board as authorized by Arizona statutes.

EPA approved into the SIP from the submittal of August 15, 1994 the following two rules, which are replaced by revised versions cited above:

• PCAQCD Rule 3-1-084, adopted on August 11, 1994.

• PCAQCD Rule 3-1-107, adopted on November 3, 1993.

EPA is publishing this direct final approval without prior proposal because the Agency views this SIP revision as a noncontroversial revision and anticipates no adverse comments. However, in the proposed rules section of this Federal Register publication, EPA is publishing a separate document that will serve as the proposal to approve the SIP revision should adverse comments be filed. This direct final approval will be effective February 20, 2001 without further notice unless the Agency receives adverse comments by January 19, 2001.

If the EPA receives such comments, then EPA will publish a timely withdrawal in the Federal Register informing the public that the rule will not take effect. All public comments received will then be addressed in a subsequent final rule based on the proposed rule. The EPA will not institute a second comment period on this rule. Any parties interested in commenting on this rule should do so at this time. If no such comments are received, the public is advised that this direct final approval will be effective on February 20, 2001.

IV. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February, 20, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Incorporation by reference, Intergovernmental relations, Permitting, Reporting and recordkeeping requirements.

Dated: July 13, 2000.
Felicia Marcus,
Regional Administrator, Region IX.

Part 52, Chapter I, Title 40 of the Code of Federal Regulations is amended as follows:

PART 52—[AMENDED]

1. The authority citation for Part 52 continues to read as follows:

Authority: 42 U.S.C. 7401 et seq.

Subpart D—Arizona

2. Section 52.120 is amended by adding paragraph (c)(18)(iv)(B), revising paragraph (c)(84)(i)(A), and adding paragraphs (c)(84)(i)(B), (c)(84)(i)(C), and (c)(84)(i)(D) to read as follows:

§ 52.120 Identification of plan.

* * * * *

(c) * * *

(18) * * *

(iv) * * *

(B) Previously approved on November 15, 1978 and now deleted without replacement Rules 7-1-2.2, 7-1-2.4, 7-1-2.7, 7-2-1.3, and 7-3-6.1.

* * * * *

(84) * * *

(i) * * *

(A) Rules 1-1-020, 1-1-030, 1-1-040, 1-1-060, 1-1-070, 1-1-080, 1-1-100, 1-2-110, 2-1-010, 2-1-020, 2-1-030, 2-1-040, 2-1-050, 2-1-060, 2-1-070, 2-2-080, 2-2-090, 2-3-100, 2-3-110, 2-4-120, 2-4-130, 2-4-140, 2-4-150, 2-5-170, 2-5-210, 2-6-220, 2-7-230, 2-7-240, 2-7-250, 2-7-260, 2-7-270, 3-1-020, 3-1-132, adopted on June 29, 1993.

(B) Rules 1-1-090, 1-2-120, 3-1-010, 3-1-030, 3-1-055, 3-1-065, 3-1-070, 3-1-082, 3-1-085, 3-1-087, 3-1-090, 3-1-102, 3-1-105, 3-1-110, 3-1-120, 3-1-140, 3-1-150, 3-1-160, 3-1-170, 3-1-173, 3-1-175, 3-1-177, 3-2-180, 3-2-185, 3-2-190, 3-2-195, 3-3-200, 3-3-203, 3-3-205, 3-3-260, 3-3-270, 3-3-275, 3-3-280, adopted on November 3, 1993.

(C) Rules 1-1-010, 1-1-106, 2-5-190, 2-5-200, 3-1-042, 3-1-060, 3-1-081, 3-1-083, 3-1-084, 3-1-089, 3-1-103, 3-1-107, 3-1-109, 3-3-210, 3-3-250, adopted on February 22, 1995.

(D) Rules 1-3-130, 1-3-140, 2-5-160, 2-5-180, 3-1-040, 3-1-050, adopted on October 12, 1995.

* * * * *

[FR Doc. 00-31465 Filed 12-19-00; 8:45 am]

BILLING CODE 6560-50-P